ENVIRONMENTAL PROTECTION AGENCY

[EPA-HQ-OPP-2006-0201; FRL-8101-4]

Organic Arsenical Herbicides (MSMA, DSMA, CAMA, and Cacodylic Acid), Reregistration Eligibility Decision; Extension of Comment Period

AGENCY: Environmental Protection Agency (EPA).

ACTION: Notice; extension of comment period.

SUMMARY: EPA issued a notice in the Federal Register of August 9, 2006, concerning the availability of the reregistration eligibility decision (RED) for the organic arsenical herbicides MSMA, DSMA, DAMA, and cacodylic acid. EPA also issued a notice in the Federal Register of October 4, 2006, announcing the extension of the original comment period by 30 days. This document is extending the comment period until December 13, 2006.

DATES: Comments, identified by docket identification (ID) number EPA-HQ-OPP-2006-0201 must be received on or before December 13, 2006.

ADDRESSES: Follow the detailed instructions as provided under ADDRESSES in the Federal Register document of August 9, 2006.

FOR FURTHER INFORMATION CONTACT: Lance Wormell, Special Review and Reregistration Division (7508P), Office of Pesticide Programs, Environmental Protection Agency, 1200 Pennsylvania Ave., NW., Washington, DC 20460-0001; telephone number: (703) 603-0523; e-mail address:wormell.lance@epa.gov.

SUPPLEMENTARY INFORMATION:

I. General Information

A. Does this Action Apply to Me?

The Agency included in the notice a list of those who may be potentially affected by this action. If you have questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

C. How and to Whom Do I Submit Comments?

To submit comments, or access the official public docket, please follow the detailed instructions as provided in SUPPLEMENTARY INFORMATION of the August 9, 2006 Federal Register document. If you have questions, consult the person listed under FOR FURTHER INFORMATION CONTACT.

II. What Action is EPA Taking?

This document extends the public comment period established in the Federal Register of October 4, 2006 (71 FR 58605) (FRL-8097-4). In that document, EPA announced the extension of the comment period for the RED document for the organic arsenical herbicides MSMA, DSMA, DAMA, and cacodylic acid. EPA is hereby extending the comment period, which was set to end on November 9, 2006, to December 13, 2006.

III. What is the Agency's Authority for Taking this Action?

Section 4(g)(2) of FIFRA as amended directs that, after submission of all data concerning a pesticide active ingredient, the Administrator shall determine whether pesticides containing such active ingredient are eligible for reregistration. Further provisions are made to allow a public comment period. However, the Administrator may extend the comment period, if additional time for comment is requested. In this case, the Monomethyl Arsonic Acid (MAA) Research Task Force, the Professional Landcare Network (PLANET) and several growers have requested additional time to develop comments.

List of Subjects

Environmental protection, Pesticides and pests.

Dated: October 19, 2006.
Debra Edwards,
Director, Special Review and Reregistration, Division, Office of Pesticide Programs

[FR Doc. E6-18035 Filed 10-26-06; 8:45 am]

BILLING CODE 6560-50-S